DEPARTMENT OF JUSTICE

Drug Enforcement Administration

Manufacturer of Controlled Substances, Notice of Application: Noramco, Inc.

Pursuant to 21 CFR 1301.33(a), this is notice that on August 5, 2013, Noramco, Inc., 500 Swedes Landing Road, Wilmington, Delaware 19801-4417, made application by renewal to the Drug Enforcement Administration (DEA) as a bulk manufacturer of the following basic classes of controlled substances:

Drug | Schedule
Codeine-N-oxide (9053) | I
Dihydromorphine (9145) | I
Morphine-N-oxide (9307) | I
Amphetamine (1100) | II
Methylphenidate (1724) | II
Phenylacetone (8501) | II
Codeine (9050) | II
Dihydrocodeine (9120) | II
Oxycodone (9143) | II
Hydromorphone (9150) | II
Hydrocodone (9193) | II
Morphine (9300) | II
Oripavine (9330) | II
Thebaine (9333) | II
Opium extracts (9610) | II
Opium fluid extract (9620) | II
Opium tincture (9630) | II
Opium, powdered (9639) | II
Opium, granulated (9640) | II
Oxymorphone (9652) | II
Noroxymorphone (9668) | II
Tapentadol (9780) | II

The company plans to manufacture the listed controlled substances in bulk for distribution to its customers.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODW), 8701 Morrissette Drive, Springfield, Virginia 22152; and must be filed no later than March 24, 2014.

Dated: January 14, 2014.
Joseph T. Rannazzisi,
Deputy Assistant Administrator, Office of Diversion Control, Drug Enforcement Administration.

[FR Doc. 2014-01158 Filed 1-21-14; 8:45 am]

BILLING CODE 4410-09-P